AGENCY FOR INTERNATIONAL DEVELOPMENT

Privacy Act of 1974, System of Records

AGENCY: United States Agency for International Development.

ACTION: Notice of new system of records.

SUMMARY: The United States Agency for International Development (USAID) is issuing public notice of its intent to establish a new system of records maintained in accordance with the Privacy Act of 1974, (5 U.S.C. 552a), as amended, entitled “USAID-029, On-Line Collaboration Records”. This action is necessary to meet the requirements of the Privacy Act to publish in the Federal Register notice of the existence and character of record systems maintained by the agency (5 U.S.C. 522a(e)(4)).

DATES: Public comments must be received on or before March 1, 2010. Unless comments are received that would require a revision, this update to the system of records will become effective on March 9, 2010.

ADDRESSES: You may submit comments:

Paper Comments

* Mail: Deputy Chief Privacy Officer, United States Agency for International Development, 1300 Pennsylvania Avenue, NW., Suite 2.12-003, Washington, DC 20523-2120.

Electronic Comments

* Federal eRulemaking Portal: http://www.regulations.gov. Follow the instructions on the Web site for submitting comments.

* E-mail: privacy@usaid.gov.

FOR FURTHER INFORMATION CONTACT: For general questions please contact, Rhonda Turnbow, Deputy Chief Privacy Officer (202) 712-0106.

SUPPLEMENTARY INFORMATION: The On-Line Collaboration Records system is being established as an Agency-wide system of record to cover all USAID on-line collaboration activities to include, public webinars, videoconferencing, social networking, on-line project Web sites, and other on-line partnership efforts funded by USAID. USAID Offices, Bureaus, Missions, or Teams, that desire to collect, maintain or store personnel data under the scope of this system of record will be required to undergo a compliance review and register their system with the USAID Privacy Office.

The On-Line Collaboration Records is being established to collect and maintain information about the participants of USAID sponsored on-line collaborative activities. The information may include name, e-mail address, country, work address, professional affiliations, age, gender, phone number, and other professional biographical information. The information will be collected to register individuals wishing to participate in USAID sponsored on-line collaborative activities. This information will be used to perform statistical analysis of the types of participants engaging in collaboration activities such as, participation of certain age groups, and analysis of differences between genders and region. The results of the statistical analysis will help USAID determine if we are targeting the proper participants. Certain information may be made available to other participants during the collaborative activity such as name, affiliation and e-mail address to help foster partnerships and facilitate participation. In some instances, transcripts of the content and information presented during a collaborative activity may be made publicly available. In these cases, individuals will be provided appropriate notice and have the opportunity to choose whether or not they want to participate. USAID may also use this information to contact individuals after an event has ended to follow-up on comments, opinions or ideas.

Dated: January 25, 2010.
Rhonda L. Turnbow,
Deputy Chief Privacy Officer.

USAID-029

SYSTEM NAME:

USAID On-Line Collaboration Records.

SECURITY CLASSIFICATION:

None.

SYSTEM LOCATION(S):

Records are maintained at USAID, 1300 Pennsylvania Avenue, NW., Ronald Reagan Building Suite 2.12, Washington, DC 20523.

CATEGORIES OF INDIVIDUALS COVERED BY THE SYSTEM:

This system will contain records of any individual who participates in a USAID sponsored on-line collaboration activity, for which registration is required.

CATEGORIES OF RECORDS IN THE SYSTEM:

Categories of records include, name, e-mail address, phone number, affiliation, title, role, company, country, age, gender, username, password, professional biographical information, such as program areas of expertise, foreign language skills, professional affiliations, professional certifications, photograph, regional or country-based experience, operational experience and educational experience.

AUTHORITY FOR MAINTENANCE OF THE SYSTEM:

5 U.S.C. 301.

PURPOSE(S):

Records in this system may be used:

(1) To perform content analysis by participant;

(2) To perform aggregated statistical analysis of collaborative participants, such as, age, gender, country;

(3) To create an on-line business card and identify individuals as they participate to promote collaboration;

(4) To register participants for collaborative activities;

(5) To perform analysis to determine if agency needs to conduct outreach or marketing to encourage participation in a specific area, age group, region, area of expertise;

(6) To follow up with individuals to clarify thoughts, opinions or comments provided during an on-line session.

DISCLOSURE TO CONSUMER REPORTING AGENCIES:

These records are not disclosed to consumer reporting agencies.

ROUTINE USE OF RECORDS MAINTAINED IN THE SYSTEM, INCLUDING CATEGORIES OF USERS AND THE PURPOSES OF SUCH USES:

In addition to USAID's routine uses, detailed transcripts of webinars, conferences and other public forums may be posted publicly to allow interested parties to perform analysis of the information presented. Aggregated data may also be publicly available through Web site postings, fact sheets, brochures or other means to encourage and generate public interest and for general informational purposes.

POLICIES AND PRACTICES FOR STORING, RETRIEVING, ACCESSING, RETAINING, AND DISPOSING OF RECORDS IN THE SYSTEM:

STORAGE:

All records will be stored electronically in a database within USAID's firewall.

RETRIEVABILITY:

Records are retrievable by name, location or any other identifier listed in the categories of records cited above.

SAFEGUARDS:

All records will be maintained within USAID's security perimeter. Physical security controls include secured space monitored by guards. Access to the database will be authorized, set up and monitored by the information system security officer.

RETENTION AND DISPOSAL:

Individual records will be destroyed when their use is no longer required.

SYSTEM MANAGER AND ADDRESS:

USAID, Chief Information Officer, 1300 Pennsylvania Ave., NW., RRB Suite 2.12, Washington, DC 20253.

NOTIFICATION PROCEDURES:

Individuals requesting notification of the existence of records on them must send the request in writing to the USAID Chief Privacy Officer, 1300 Pennsylvania Ave., NW, RRB Suite 2.12-003, Washington, DC 20253. The request must include the requestor's full name, his/her current address and a return address for transmitting the information. The request shall be signed by either notarized signature or by signature under penalty of perjury and reasonably specify the record contents being sought.

RECORD ACCESS PROCEDURES:

Individuals requesting access to a record maintained on them must address the request to the USAID Chief Privacy Officer as described in “Notification Procedures” above.

CONTESTING RECORD PROCEDURES:

Individuals requesting amendment of a record maintained on them must identify the information to be changed and the corrective action sought. Requests must be sent to the USAID Chief Privacy Officer as described in “Notification Procedures” above.

RECORD SOURCE CATEGORIES:

The records contained in this system should be provided by the individual who is the subject of the record. Additional sources may include a supervisor, personal assistant or other individual assigned by the individual to provide the information.

EXEMPTIONS CLAIMED FOR THE SYSTEM:

None.

[FR Doc. 2010-1775 Filed 1-27-10; 8:45 am]

BILLING CODE P